DEPARTMENT OF COMMERCE

International Trade Administration

[A-570-928]

Uncovered Innerspring Units From the People's Republic of China: Final Results of the Antidumping Duty Administrative Review; 2017-2018

AGENCY: Enforcement and Compliance, International Trade Administration, Department of Commerce.

SUMMARY: The Department of Commerce (Commerce) determines that, of the two companies subject to this review, one had no shipments and the other continues to be a part of the China-wide entity.

FOR FURTHER INFORMATION CONTACT: Christian Llinas, AD/CVD Operations, Office V, Enforcement and Compliance, International Trade Administration, Department of Commerce, 1401 Constitution Avenue NW, Washington, DC 20230; telephone: (202) 482-4877.

SUPPLEMENTARY INFORMATION:

Background

On October 29, 2019, Commerce published the preliminary results of the ninth administrative review of the antidumping duty order on uncovered innerspring units (innersprings) from the People's Republic of China (China) for the period of review (POR), February 1, 2017, through January 31, 2018.¹ We gave interested parties an opportunity to comment on the Preliminary Results. We received no comments. Hence, these final results are unchanged from the Preliminary Results.

¹ See Preliminary Results of the Ninth Administrative Review of the Antidumping Duty Order on Uncovered Innerspring Units from the People's Republic of China, 2017-2018, 83 FR 55144 (November 2, 2018) and accompanying Preliminary Decision Memorandum (PDM) (collectively, Preliminary Results).

Scope of the Order

The merchandise subject to the order is uncovered innerspring units composed of a series of individual metal springs joined together in sizes corresponding to the sizes of adult mattresses (e.g., twin, twin long, full, full long, queen, California king, and king) and units used in smaller constructions, such as crib and youth mattresses. The product is currently classified under subheading 9404.29.9010 and has also been classified under subheadings 9404.10.0000, 9404.29.9005, 9404.29.9011, 7326.20.0070, 7326.20.0090, 7320.20.5010, 7320.90.5010, or 7326.20.0071 of the Harmonized Tariff Schedule of the United States (HTSUS). The HTSUS subheadings are provided for convenience and customs purposes only; the written description of the scope of the order is dispositive.²

² See PDM at “Scope of the Order.”

Final Determination of No Shipments

Commerce preliminarily found that Comfort Coil Technology Sdn. Bhd. (Comfort Coil), did not have any shipments of subject merchandise during the POR.³ Commerce also found that Foshan Nanhai Jolyspring (Foshan Nanhai) did not demonstrate it is entitled to a separate rate and, thus, we consider Foshan Nanhai to be part of the China wide-wide entity.⁴ After the Preliminary Results, we received no comments or additional information with respect to these two companies. Therefore, for the final results, we continue to find that Comfort Coil did not have any shipments of subject merchandise during the POR, and that Foshan Nanhai continues to be a part of the China-wide entity. Consistent with our practice, we will issue appropriate instructions to U.S. Customs and Border Protection (CBP) based on our final results.

³ Id at 3.

⁴ Id at 4-5.

Analysis of Comments Received

As noted above, we received no comments on the Preliminary Results.

Changes Since the Preliminary Results

As no parties submitted comments on the Preliminary Results, Commerce has not modified its analysis from that presented in the Preliminary Results, and no decision memorandum accompanies this Federal Register notice.

Assessment Rates

We have not calculated any assessment rates in this administrative review. Pursuant to Commerce's assessment practice, because we have determined that Comfort Coil had no shipments of the subject merchandise, any suspended entries that entered under that exporter's case number (i.e., at that exporter's rate) will be liquidated at the China-wide entity rate.⁵ We will instruct CBP to liquidate entries from the PRC-wide entity (including Foshan Nanhai) at the current rate for the PRC-wide entity (i.e., 234.51 percent). Commerce intends to issue appropriate assessment instructions to CBP 15 days after the publication date of the final results of this administrative review.

⁵ See Non-Market Economy Antidumping Proceedings: Assessment of Antidumping Duties, 76 FR 65694 (October 24, 2011).

Cash Deposit Requirements

The following cash deposit requirements will be effective upon publication of the final results of this administrative review for shipments of the subject merchandise from China entered, or withdrawn from warehouse, for consumption on or after the publication date of this notice, as provided by section 751(a)(2)(C) of the Act: (1) For previously investigated or reviewed Chinese and non-Chinese exporters that received a separate rate in a prior segment of this proceeding, the cash deposit rate will continue to be the existing exporter-specific rate published for the most recently completed period; (2) for all Chinese exporters of subject merchandise that have not been found to be entitled to a separate rate, i.e., Foshan Nanhai, the cash deposit rate will be the China-wide rate of 234.51 percent; and (3) for all non-Chinese exporters of subject merchandise which have not received their own rate, the cash deposit rate will be the rate applicable to the Chinese exporter that supplied that non-Chinese exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction. These final results of administrative and new shipper reviews are issued and published in accordance with sections 751(a)(1) and 777(i) of the Act and 19 CFR 351.221(b)(5).

Dated: April 10, 2019.
Gary Taverman,
Deputy Assistant Secretary for Antidumping and Countervailing Duty Operations, performing the non-exclusive functions and duties of the Assistant Secretary for Enforcement and Compliance.

[FR Doc. 2019-07805 Filed 4-17-19; 8:45 am]

BILLING CODE 3510-DS-P